DEPARTMENT OF ENERGY

Federal Energy Regulatory Commission

[Docket No. EC01-124-000, et al.]

PECO Energy Company, et al.; Electric Rate and Corporate Regulation Filings

July 6, 2001.

Take notice that the following filings have been made with the Commission:

1. PECO Energy Company, Commonwealth Edison Company, Exelon Generation Company, LLC

[Docket No. EC01-124-000]

Take notice that on June 29, 2001, PECO Energy Company (PECO Energy), Commonwealth Edison Company (ComEd), and Exelon Generation Company, LLC (Exelon Generation) tendered for filing a joint application for authorization for PECO Energy and ComEd to transfer to Exelon Generation service agreements under PECO Energy's and ComEd's wholesale power sales tariffs.

Comment date: July 20, 2001, in accordance with Standard Paragraph E at the end of this notice.

2. Citizens Communications Company

[Docket Nos. ER95-1586-011, EL96-17-005 and OA96-184-008]

Take notice that on June 29, 2001, Citizens Communications Company (Citizens) tendered for filing with the Federal Energy Regulatory Commission (Commission) in compliance with the Commission's April 30, 2001 order in the above-referenced proceedings, certain tariff and rate schedule sheets with respect to its Vermont Electric Division's open access transmission tariff (FERC Electric Tariff First Revised Volume No. 4, Second Revised Sheet Nos. 139, 144 and 148), and Rate Schedule FERC No. 28. To comply with this order, Citizens filed these tariff and rate schedule sheets under the name of Citizens Utilities Company, and requested an effective date of December 31, 2001.

A copy of this filing was served on the parties on the official service list in the above-referenced proceedings.

Comment date: July 20, 2001, in accordance with Standard Paragraph E at the end of this notice.

3. Entergy Services, Inc.

[Docket No. ER01-2491-000]

Take notice that on July 2, 2001, Entergy Services, Inc., on behalf of Entergy Arkansas, Inc., Entergy Gulf States, Inc., Entergy Louisiana, Inc., Entergy Mississippi, Inc., and Entergy New Orleans, Inc., (collectively, the Entergy Operating Companies) tendered for filing a Non-Firm Point-To-Point Transmission Service Agreement and a Short-Term Firm Point-To-Point Transmission Service Agreement both between Entergy Services, Inc., as agent for the Entergy Operating Companies, and ExxonMobil Refining & Supply Co.

Entergy Services requests that the service agreements become effective by June 14, 2001.

Comment date: July 23, 2001, in accordance with Standard Paragraph E at the end of this notice.

4. American Electric Power Service Corporation

[Docket No. ER01-2492-000]

Take notice that on July 2, 2001, the American Electric Power Service Corporation (AEPSC) tendered for filing two service agreements with Enron Power Marketing, Inc. for transactions exceeding one year in length by the AEP Companies under the Wholesale Market Tariff of the AEP Operating Companies (Power Sales Tariff). The Power Sales Tariff was accepted for filing effective October 10, 1997 and has been designated AEP Operating Companies' FERC Electric Tariff Original Volume No. 5 (Wholesale Tariff of the AEP Operating Companies) and FERC Electric Tariff Original Volume No. 8, Effective January 8, 1998 in Docket ER 98-542-000 (Market-Based Rate Power Sales Tariff of the CSW Operating Companies).

AEPSC respectfully requests waiver of notice to permit these service agreements to be made effective on or prior to July 1, 2001.

A copy of the filing was served upon the Parties and the State Utility Regulatory Commissions of Arkansas, Indiana, Kentucky, Louisiana, Michigan, Ohio, Oklahoma, Tennessee, Texas, Virginia and West Virginia.

Comment date: July 23, 2001, in accordance with Standard Paragraph E at the end of this notice.

5. Central Maine Power Company

[Docket No. ER01-2493-000]

Take notice that on July 2, 2001, Central Maine Power Company (CMP), tendered for filing with the Federal Energy Regulatory Commission (FERC), in accordance with section 1.18 of the settlement agreement approved in Docket Nos. ER00-26-000, et al., an informational filing containing the data used to update the formula rates in its open access transmission tariff. The charges associated with the updated data took effect June 1, 2001.

Copies of this filing were sent to FERC Staff and the Maine Public Utilities Commission.

Comment date: July 23, 2001, in accordance with Standard Paragraph E at the end of this notice.

6. Bethlehem Steel Corporation

[Docket No. ER01-2494-000]

Take notice that on July 2, 2001, Bethlehem Steel Corporation (Bethlehem) tendered for filing under Section 205 of the Federal Power Act an umbrella Service Agreement For Short-Term Sales between Bethlehem and PSEG Energy Resources & Trade LLC. The umbrella service agreement provides for sales of energy and capacity under Bethlehem's market-based rate schedule.

Bethlehem requests an effective date for the umbrella service agreement of June 1, 2001.

Comment date: July 23, 2001, in accordance with Standard Paragraph E at the end of this notice.

7. Niagara Mohawk Power Corporation

[Docket No. ER01-2495-000]

Take notice that on July 2, 2001, Niagara Mohawk Power Corporation (Niagara Mohawk) tendered for filing an Interconnection Agreement between Niagara Mohawk Power Corporation and Allegany Limited Partnership for a 2 MW internal combustion generating facility located in the Town of Carrollton, Cattaraugus County, New York, dated as of June 29, 2001. The filing has been designated by the New York Independent System Operator as FERC Electric Rate Schedule No. 311 and Niagara Mohawk has asked for approval of same as a Service Agreement.

Niagara Mohawk requests an effective date of July 13, 2001.

Comment date: July 23, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-17541 Filed 7-12-01; 8:45 am]

BILLING CODE 6717-01-P